DEPARTMENT OF HOMELAND SECURITY

Federal Emergency Management Agency

[Docket ID FEMA-2022-0002; Internal Agency Docket No. FEMA-B-2274]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arkansas: Boone | City of Harrison (21-06-2249P). | The Honorable Jerry Jackson, Mayor, City of Harrison, P.O. Box 1715, Harrison, AR 72602. | Department of Public Works, 303 North 3rd Street, Harrison, AR 72601. | https://msc.fema.gov/portal/advanceSearch. | Nov. 28, 2022 | 050020
Colorado:
Broomfield | City and County of Broomfield (21-08-0472P). | The Honorable Guyleen Castriotta, Mayor, City and County of Broomfield, 1 DesCombes Drive, Broomfield, CO 80020. | Engineering Department, 1 DesCombes Drive, Broomfield, CO 80020. | https://msc.fema.gov/portal/advanceSearch. | Nov. 14, 2022 | 085073
Colorado: El Paso | City of Colorado Springs (22-08-0015P). | The Honorable John Suthers, Mayor, City of Colorado Springs, 30 South Nevada Avenue, Colorado Springs, CO 80903. | City Hall, 30 South Nevada Avenue, Colorado Springs, CO 80903. | https://msc.fema.gov/portal/advanceSearch. | Dec. 19, 2022 | 080060
El Paso | City of Fountain (21-08-0935P). | The Honorable Sharon Thompson, Mayor, City of Fountain, 116 South Main Street, Fountain, CO 80817. | City Hall, 116 South Main Street, Fountain, CO 80817. | https://msc.fema.gov/portal/advanceSearch. | Dec. 12, 2022 | 080061
El Paso | Unincorporated areas of El Paso County (21-08-0935P). | The Honorable Stan VanderWerf, Chair, El Paso County Board of Commissioners, 200 South Cascade Avenue, Suite 100, Colorado Springs, CO 80903. | El Paso County Pikes Peak Regional Building Department, 2880 International Circle, Colorado Springs, CO 80910. | https://msc.fema.gov/portal/advanceSearch. | Dec. 12, 2022 | 080059
Connecticut: New Haven | City of New Haven (22-01-0224P). | The Honorable Justin Elicker, Mayor, City of New Haven, 165 State Street, New Haven, CT 06510. | Planning Department, 165 State Street, New Haven, CT 06510. | https://msc.fema.gov/portal/advanceSearch. | Nov. 14, 2022 | 090084
Florida:
Duval | City of Jacksonville (22-04-2659P). | The Honorable Lenny Curry, Mayor, City of Jacksonville, 117 West Duval Street, Suite 400, Jacksonville, FL 32202. | Planning and Development Department, 214 North Hogan Street, Suite 300, Jacksonville, FL 32202. | https://msc.fema.gov/portal/advanceSearch. | Dec. 12, 2022 | 120077
Miami-Dade | City of Miami (22-04-3664P). | The Honorable Francis X. Suarez, Mayor, City of Miami, 3500 Pan American Drive, Miami, FL33133. | Building Department 444 Southwest 2nd Avenue, 4th Floor Miami, FL33130. | https://msc.fema.gov/portal/advanceSearch. | Dec. 5, 2022 | 120650
Monroe | Unincorporated areas of Monroe County (22-04-2344P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Dec. 12, 2022 | 125129
Monroe | Village of Islamorada (22-04-3158P). | The Honorable Pete Bacheler, Mayor, Village of Islamorada, 86800 Overseas Highway, Islamorada, FL 33036. | Building Department, 86800 Overseas Highway, Islamorada, FL 33036. | https://msc.fema.gov/portal/advanceSearch. | Nov. 14, 2022 | 120424
Osceola | Unincorporated areas of Osceola County (21-04-6031P). | Don Fisher, Osceola County Manager, 1 Courthouse Square, Suite 4700, Kissimmee, FL 34741. | Osceola County Public Works Department, 1 Courthouse Square, Suite 3100, Kissimmee, FL 34741. | https://msc.fema.gov/portal/advanceSearch. | Nov. 18, 2022 | 120189
Osceola | Unincorporated areas of Osceola County (22-04-3663P). | Don Fisher, Osceola County Manager, 1 Courthouse Square, Suite 4700, Kissimmee, FL 34741. | Osceola County Public Works Department, 1 Courthouse Square, Suite 3100, Kissimmee, FL 34741. | https://msc.fema.gov/portal/advanceSearch. | Nov. 18, 2022 | 120189
Pasco | Unincorporated areas of Pasco County, (22-04-3652P). | The Honorable Kathryn Starkey, Chair, Pasco County Board of Commissioners, 37918 Meridian Avenue, Dade City, FL 33525. | Pasco County Building Construction Services Department, 8731 Citizens Drive, Suite 230, New Port Richey, FL 34654. | https://msc.fema.gov/portal/advanceSearch. | Dec. 5, 2022 | 120230
Pasco | Unincorporated areas of Pasco County (22-04-3661P). | The Honorable Kathryn Starkey, Chair, Pasco County Board of Commissioners, 37918 Meridian Avenue, Dade City, FL 33525. | Pasco County Building Construction Services Department, 8731 Citizens Drive, Suite 230, New Port Richey, FL 34654. | https://msc.fema.gov/portal/advanceSearch. | Dec. 15, 2022 | 120230
Polk | Unincorporated areas of Polk County (22-04-1908P). | Bill Beasley, Manager, Polk County, 330 West Church Street, Bartow, FL 33831. | Polk County Land Development Division, 330 West Church Street, Bartow, FL 33831. | https://msc.fema.gov/portal/advanceSearch. | Dec. 22, 2022 | 120261
Georgia: Columbia | Unincorporated areas of Columbia County (22-04-1178P). | The Honorable Douglas R. Duncan, Jr., Chair, Columbia County Board of Commissioners, P.O. Box 498, Evans, GA 30809. | Columbia County Engineering Services Department, 630 Ronald Reagan Drive, Evans, GA 30809. | https://msc.fema.gov/portal/advanceSearch. | Nov. 25, 2022 | 130059
North Carolina: Guilford | City of Greensboro (22-04-0428P). | The Honorable Nancy Vaughan, Mayor, City of Greensboro, P.O. Box 3136, Greensboro, NC 27402. | Stormwater Planning Division, 300 West Washington Street, Greensboro, NC 27401. | https://msc.fema.gov/portal/advanceSearch. | Dec. 20, 2022 | 375351
North Dakota: Burleigh | City of Bismarck (21-08-1169P). | The Honorable Michael T. Schmitz, Mayor, City of Bismarck, P.O. Box 5503, Bismarck, ND 58506. | City Hall, 221 North 5th Street, Bismarck, ND 58501. | https://msc.fema.gov/portal/advanceSearch. | Dec. 13, 2022 | 380149
South Carolina:
Dorchester | Unincorporated areas of Dorchester County (21-04-5781P). | Jason L. Ward, Dorchester County Administrator, 201 Johnston Street, St. George, SC 29477. | Dorchester County Building Services Department, 500 North Main Street, Summerville, SC 29483. | https://msc.fema.gov/portal/advanceSearch. | Nov. 25, 2022 | 450068
South Carolina: Sumter | City of Sumter (22-04-1578P). | The Honorable David P. Merchant Mayor, City of Sumter 21 North Main Street Sumter, SC 29150. | Sumter City-County Planning Department 12 West Liberty Street Sumter, SC 29150. | https://msc.fema.gov/portal/advanceSearch. | Nov. 25, 2022 | 450184
Sumter | Unincorporated areas of Sumter County (22-04-1578P). | The Honorable James T. McCain, Jr., Chair, Sumter County Council, 13 East Canal Street, Sumter, SC 29150. | Sumter City-County Planning Department, 12 West Liberty Street, Sumter, SC 29150. | https://msc.fema.gov/portal/advanceSearch. | Nov. 25, 2022 | 450182
Tennessee: Williamson | City of Brentwood (22-04-1349P). | The Honorable Rhea E. Little, Mayor, City of Brentwood, 5211 Maryland Way, Brentwood, TN 37027. | City Hall, 5211 Maryland Way, Brentwood, TN 37027. | https://msc.fema.gov/portal/advanceSearch. | Nov. 14, 2022 | 470205
Texas:
Bexar | City of San Antonio (22-06-0410P). | The Honorable Ron Nirenberg, Mayor, City of San Antonio, P.O. Box 839966, San Antonio, TX 78283. | Transportation and Capitol Improvements Department, Storm Water Division, 1901 South Alamo Street, San Antonio, TX 78204. | https://msc.fema.gov/portal/advanceSearch. | Nov. 14, 2022 | 480045
Collin | Unincorporated areas of Collin County (22-06-1296P). | The Honorable Chris Hill, Collin County Judge, 2300 Bloomdale Road, Suite 4192, McKinney, TX 75071. | Collin County Engineering Department, 4690 Community Avenue, Suite 22, McKinney, TX 75071. | https://msc.fema.gov/portal/advanceSearch. | Nov. 28, 2022 | 480130
Galveston | City of League City (21-06-2885P). | The Honorable Pat Hallisey, Mayor, City of League City, 300 West Walker Street, League City, TX 77573. | Engineering Department, 500 West Walker Street, League City, TX 77573. | https://msc.fema.gov/portal/advanceSearch. | Nov. 21, 2022 | 485488
Webb | City of Laredo (21-06-2407P). | The Honorable Pete Saenz, Mayor, City of Laredo, 1110 Houston Street, 3rd Floor, Laredo, TX 78040. | Planning and Zoning Department, 1413 Houston Street, Laredo, TX 78040. | https://msc.fema.gov/portal/advanceSearch. | Nov. 28, 2022 | 480651
Utah:
Salt Lake | City of Herriman City (22-08-0046P). | Nathan Cherpeski, Manager, City of Herriman City, 5355 West Herriman Main Street, Herriman, UT 84096. | GIS Department, 5355 West Herriman Main Street, Herriman, UT 84096. | https://msc.fema.gov/portal/advanceSearch. | Nov. 21, 2022 | 490182
Washington | City of Washington City (22-08-0088P). | The Honorable Kress Staheli, Mayor, City of Washington City, 111 North 100 East, Washington City, UT 84780. | Public Works Department, 1305 East Washington Dam Road, Washington City, UT 84780. | https://msc.fema.gov/portal/advanceSearch. | Dec. 7, 2022 | 490182
Washington | Unincorporated areas of Washington County (22-08-0088P). | The Honorable Victor Iverson, Chair, Washington County Commission,197 East Tabernacle Street, St. George, UT 84770. | Washington County Administration Building, 197 East Tabernacle Street, St. George, UT 84770. | https://msc.fema.gov/portal/advanceSearch. | Dec. 7, 2022 | 490224
Virginia:
Fairfax | Unincorporated areas of Fairfax County (22-03-0497P). | The Honorable Jeffrey C. McKay, Chair, Fairfax County Board of Supervisors, 12000 Government Center Parkway, Fairfax, VA 22035. | Fairfax County Planning Division, 12000 Government Center Parkway, Suite 449, Fairfax, VA 22035. | https://msc.fema.gov/portal/advanceSearch. | Dec. 7, 2022 | 515525
Independent City | City of Falls Church (22-03-0497P). | The Honorable P. David Tarter, Mayor, City of Falls Church, 300 Park Avenue, Falls Church, VA 22046. | Public Works Department, 300 Park Avenue, Suite 103E, Falls Church, VA 22046. | https://msc.fema.gov/portal/advanceSearch. | Dec. 7, 2022 | 510054

[FR Doc. 2022-19835 Filed 9-13-22; 8:45 am]

BILLING CODE 9110-12-P